SMALL BUSINESS ADMINISTRATION

[Declaration of Disaster #3272]

State of Wisconsin

As a result of the President's major disaster declaration on June 23, 2000 for Public Assistance only, and an amendment thereto on July 11 adding Individual Assistance, I find that Crawford, Dane, Grant, Kenosha, Milwaukee, Vernon, and Walworth Counties in the State of Wisconsin constitute a disaster area due to damages caused by severe storms, tornadoes, and flooding beginning on May 26, 2000, and continuing through July 5, 2000. Applications for loans for physical damage as a result of this disaster may be filed until the close of business on September 9, 2000 and for economic injury until the close of business on April 11, 2001 at the address listed below or other locally announced locations: U.S. Small Business Administration, Disaster Area 2 Office, One Baltimore Place, Suite 300, Atlanta, GA 30308.

In addition, applications for economic injury loans from small businesses located in the following contiguous counties may be filed until the specified date at the above location: Columbia, Dodge, Green, Iowa, Jefferson, Juneau, LaCrosse, Lafayette, Monroe, Ozaukee, Racine, Richland, Rock, Sauk, Washington, and Waukesha Counties in Wisconsin; Allamakee, Clayton, and Dubuque Counties in Iowa; and Boone, Jo Daviess, Lake, and McHenry Counties in Illinois. Any counties contiguous to the above-named primary counties and not listed herein have been previously declared under a separate declaration for the same occurrence.

The interest rates are:

For Physical Damage

Homeowners with credit available elsewhere: 7.375%

Homeowners without credit available elsewhere: 3.687%

Businesses with credit available elsewhere: 8.000%

Businesses and non-profit organizations without credit available elsewhere: 4.000%

Others (including non-profit organizations) with credit available elsewhere: 6.750%

For Economic Injury

Businesses and small agricultural cooperatives without credit available elsewhere: 4.000%

The number assigned to this disaster for physical damage is 327206. For economic injury the numbers are 9H8100 for Wisconsin, 9H8300 for Iowa, and 9H8400 for Illinois.

(Catalog of Federal Domestic Assistance Program Nos. 59002 and 59008)
Dated: July 13, 2000.
Herbert L. Mitchell,
Acting Associate Administrator for Disaster Assistance.

[FR Doc. 00-18269 Filed 7-18-00; 8:45 am]

BILLING CODE 8025-01-P